DEPARTMENT OF HEALTH AND HUMAN SERVICES

National Institutes of Health

Government-Owned Inventions; Availability for Licensing

AGENCY: National Institutes of Health, Public Health Service, DHHS.

ACTION: Notice.

SUMMARY: The invention listed below is owned by agencies of the U.S. Government and is available for licensing in the U.S. in accordance with 35 U.S.C. 207 to achieve expeditious commercialization of results of federally-funded research and development. Foreign patent applications are filed on selected inventions to extend market coverage for companies and may also be available for licensing.

ADDRESSES: Licensing information and copies of the U.S. patent application listed below may be obtained by writing to the indicated licensing contact at the Office of Technology Transfer, National Institutes of Health, 6011 Executive Boulevard, Suite 325, Rockville, Maryland 20852-3804; telephone: 301/496-7057; fax: 301/402-0220. A signed Confidential Disclosure Agreement will be required to receive copies of the patent application.

Container for Drying Biological Samples, Method of Making Such Container, and Method of Using Same

Geoffrey L. Kidd (NEI).

U.S. Patent Application Serial No. 10/238,147 filed 09 Sep 2002 (DHHS Reference No. E-304-2003/0-US-01).

Licensing Contact: Marlene Astor, 301/435-4426, or David Sadowski, 301/435-5525.

Problem Addressed by This Invention: Many materials, such as drugs, growth factors, etc., must be kept sterile and must be aliquotted for storage. Usually, these aliquots are best stored lyophilized. When compared to freezing in solution, lyophilization offers more than twenty-fold longer shelf-lives for these labile compunds. Yet, researchers have never had a way to keep aliquots sterile through the lyophilization process. Consequently, each aliquot has had to be filter-sterilized when reconstituted for use. This process has the disadvantages of consuming: excessive filters, syringes, sterile receptacles, and time; and may result in serious loss of precious sample due to absorption by the filters—especially with small samples. Alternatively, researchers have had to forego lyophilization and store their sterile solutions in the less-stable frozen form.

Solution Offered by This Invention: The multi-well plates of this invention provide venting through a filter element thereby permitting a sterile solution to remain sterile throughout lyophilization, even after the vacuum is released and air reenters the multi-well plate. Thus, a starting solution is simply filter-sterilized while in a relatively large volume, using a single filter and therefore suffering minimal loss and consuming little time. It is then aliquotted into a multi-well plate and lyophilized. The plate may then be transferred directly to the freezer, if desired. The compound is reconstituted when needed, and may then be used immediately without further filtration.

Potential Applications of This Invention: All researchers worldwide who utilize sterile, labile compounds will have an interest in this product, including governmental, university, institutional, and drug company laboratories. Most notably in need are investigators involved in drug-testing, which is normally done either in cell cultures, laboratory animals, or humans, and which requires sterility of many aliquots of many drugs. Additionally, this product will have a large market relating to basic research utilizing microbial, plant, or animal cell or organ cultures, to which sterile compounds such as growth factors are commonly added. Research in drugs, growth factors, etc., is expanding ever more rapidly, and generally requires a cell culture system in which to study such compounds. Most of these compounds are quite expensive. Loss of potency during storage and loss of material during filtration are widespread problems which may be overcome with this invention. Therefore, there exists a tremendous need and immense market for these multi-well plates.

Dated: August 14, 2003.
Steven M. Ferguson,
Director, Division of Technology Development and Transfer, Office of Technology Transfer, National Institutes of Health.

[FR Doc. 03-21695 Filed 8-25-03; 8:45 am]

BILLING CODE 4140-01-P